FEDERAL ELECTION COMMISSION

Sunshine Act Meeting

AGENCY: Federal Election Commission.

DATE AND TIME: Tuesday, June 24, 2014 at 10:00 a.m.

PLACE: 999 E Street NW., Washington, DC.

STATUS: This Meeting Will Be Closed to the Public.

FEDERAL REGISTER CITATION OF PREVIOUS ANNOUNCEMENT: 79 FR 35353 (June 20, 2014).

CHANGE IN THE MEETING: This meeting will begin at 11:00 a.m. rather than 10:00 a.m.

* * * * *

PERSON TO CONTACT FOR INFORMATION: Judith Ingram, Press Officer, Telephone: (202) 694-1220.

Shelley E. Garr,
Acting Secretary and Clerk of the Commission.

[FR Doc. 2014-15001 Filed 6-23-14; 4:15 pm]

BILLING CODE 6715-01-P